DEPARTMENT OF HEALTH AND HUMAN SERVICES

Administration for Children and Families

Submission for OMB Review; Comment Request

Title: 45 CFR 303.7—Provision of Services in Intergovernmental IV-D; Federally Approved Forms.

OMB No.: 0970-0085.

Description: The Intergovernmental forms were initially approved by OMB in 1988; 45 CFR 303.7 requires child support programs to use the OMB federally-approved forms in intergovernmental IV-D cases unless a country has provided alternative forms as a part of its chapter in a Caseworker's Guide to Processing Cases with Foreign Reciprocating Countries. Additionally, Public Law (Pub. L.) 113-183, the Preventing Sex Trafficking and Strengthening Families Act of 2014 amended the Social Security Act to require U.S. states, the District of Columbia, Guam, Puerto Rico, and the U.S. Virgin Islands to enact any amendments to UIFSA “officially adopted as of September 30, 2008 by the National Conference of Commissioners on Uniform State Laws” (UIFSA 2008). Section 311(b) of UIFSA 2008 requires the States and jurisdictions to use forms mandated by Federal law.

The current intergovernmental forms will expire in February 2017. The revised forms included in this submission to OMB incorporate many of the revisions requested by commenters during the 60-day comment period, which started August 4, 2015 (Federal Register, Volume 80, Number 149, page 46286).

Respondents: State, local, or Tribal agencies administering a child support enforcement program under title IV-D of the Social Security Act.

Annual Burden Estimates
Instrument | Number of respondents | Number of responses per respondent | Average burden hours per response | Total burden hours
Transmittal #1—Initial Request | 54 | 19,440 | 0.17 | 178,459
Transmittal #1—Initial Request Acknowledgement * | 54 | 19,440 | 0.05 | 52,488
Transmittal #2—Subsequent Action | 54 | 14,580 | 0.08 | 62,986
Transmittal #3—Request for Assistance/Discovery | 54 | 2,700 | 0.08 | 11,664
Uniform Support Petition | 54 | 6,480 | 0.05 | 17,496
General Testimony | 54 | 6,480 | 0.33 | 115,474
Declaration in Support of Establishing Parentage | 54 | 2,700 | 0.15 | 21,870
Locate Data Sheet | 54 | 388 | 0.05 | 1,048
Notice of Determination of Controlling Order | 54 | 54 | 0.25 | 729
Letter of Transmittal Requesting Registration | 54 | 14,310 | 0.08 | 61,819
Personal Information Form For UIFSA § 311 * | 54 | 27,000 | 0.05 | 72,900
Child Support Agency Confidential Information Form * | 54 | 37,584 | 0.05 | 101,477
Request for Change of Support Payment Location Pursuant to UIFSA 319(b) * | 54 | 27,000 | 0.05 | 72,900

Estimated Total Annual Burden Hours: 771,309.

Additional Information

Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-17086 Filed 7-19-16; 8:45 am]

BILLING CODE 4184-01-P